SMALL BUSINESS ADMINISTRATION

13 CFR Parts 121 and 124

RIN 3245-AF53

Small Business Size Regulations; 8(a) Business Development/Small Disadvantaged Business Status Determinations; Tribal Consultation

AGENCY: U.S. Small Business Administration.

ACTION: Proposed rule; notice of tribal consultation meeting; request for comments.

SUMMARY: The U.S. Small Business Administration (SBA) announces that it is holding tribal consultation meetings in Seattle, Washington and Albuquerque, New Mexico on the topic of the proposed 8(a) Business Development (BD) program regulations. Testimony presented at this tribal consultation meeting will become part of the administrative record for SBA's consideration when the Agency deliberates on approaches to changes in the regulations pertaining to the 8(a) BD program.

DATES: The tribal consultation meetings will be held on Wednesday, December 16, 2009 from 9 a.m. to 4 p.m. in Seattle, Washington, and on Thursday, January 14, 2010 from 9 a.m. to 4 p.m. in Albuquerque, New Mexico.

The tribal consultation meeting pre-registration deadline dates are: December 10, 2009 at 5 p.m. Eastern Standard Time (EST) for the Seattle location; and January 8, 2010 at 5 p.m. EST for the Albuquerque location.

ADDRESSES: 1. The Seattle Tribal Consultation meeting address is South Seattle Community College's Georgetown Campus, Building C—Gene J. Colin Ed. Bldg., 6737 Corson Avenue South, Seattle, WA 98108.

2. The Albuquerque Tribal Consultation meeting address is American Indian Cultural Center, 2401 12 Street, NW., Albuquerque, NM 87104.

3. Send pre-registration requests to attend and/or testify to Ms. Carol Walker, Office of Native American Affairs, U.S. Small Business Administration, 409 Third Street, SW., Washington, DC 20416; by e-mail to carol.y.walker@sba.gov; or by facsimile to (202) 481-0614.

4. Send all written comments to Mr. Joseph Loddo, Associate Administrator for Business Development, U.S. Small Business Administration, 409 3rd Street, SW., Washington, DC 20416; Joseph.Loddo@SBA.gov; or by facsimile to (202) 481-2740.

FOR FURTHER INFORMATION CONTACT: If you have any questions on this proposed rulemaking, call or e-mail LeAnn Delaney, Deputy Associate Administrator, Office of Business Development, at (202) 205-5852, or leann.delaney@sba.gov. If you have any questions about registering or attending the tribal consultation please contact Ms. Carol Walker at 202-205-7094, or carol.y.walker@sba.gov; or by facsimile to (202) 481-0614.

SUPPLEMENTARY INFORMATION:

I. Background

On October 28, 2009 (74 FR 55694-01), SBA issued a Notice of Proposed Rulemaking (NPRM), publicly available at http://edocket.access.gpo.gov/2009/E9-25416.htm. In that document, SBA proposed to make a number of changes to the regulations governing the 8(a) BD Program Regulations and several changes to its Small Business Size Regulations. Some of the changes involve technical issues. Other changes are more substantive and result from SBA's experience in implementing the current regulations. In addition to written comments, SBA is requesting oral comments on the various approaches for the proposed changes.

II. Tribal Consultation Meetings

The purpose of these tribal consultation meetings is to conform to the requirements of Executive Order 13175, Tribal Consultations; to provide interested parties with an opportunity to discuss their views on the issues; and for SBA to obtain the views of these SBA's stakeholders on approaches to the 8(a) BD program regulations. SBA considers tribal consultation meetings a valuable component of its deliberations and believes that this tribal consultation meeting will allow for constructive dialogue with the tribal community, Tribal Leaders, Elders and elected members of Alaska Native Villages or their appointed representatives.

The format of these tribal consultation meetings will consist of a panel of SBA representatives who will preside over the session. The oral and written testimony will become part of the administrative record for SBA's consideration. Written testimony may be submitted in lieu of oral testimony.

SBA will analyze the testimony, both oral and written, along with any written comments received. SBA officials may ask questions of a presenter to clarify or further explain the testimony. The purpose of the tribal consultation is to allow the tribal community, Tribal Leaders, Elders and elected members of Alaska Native Villages or their appointed representatives to comment on SBA's proposed rulemaking. SBA requests that the comments focus on the proposed changes as stated in the NPRM. SBA requests that commentors do not raise issues pertaining to other SBA small business programs.

Presenters may provide a written copy of their testimony. SBA will accept written material that the presenter wishes to provide that further supplements his or her testimony. Electronic or digitized copies are encouraged.

SBA will also hold additional general public meetings before the close of the comment period for this rulemaking.

The tribal consultation meetings will be held for one day. The meeting in Seattle will begin at 9 a.m. and end at 4 p.m. (Pacific Standard Time), with a break from 12 p.m. to 1 p.m. The meeting in Albuquerque will begin at 9 a.m. and end at 4 p.m. (Mountain Standard Time), with a break from 12 p.m. to 1 p.m. SBA will adjourn early if all those scheduled have delivered their testimony.

III. Registration

SBA respectfully requests that any elected or appointed representative of the tribal communities that are interested in attending please pre-register in advance and indicate whether you would like to testify at the hearing. Registration requests should be received by SBA by December 10, 2009 at 5 p.m. EST for the Seattle location, and by January 8, 2010 at 5 p.m. EST for the Albuquerque location. Please contact Ms. Carol Walker in SBA's Office of Native American Affairs in writing at carol.y.walker@sba.gov or by facsimile at (202) 481-0614.

If you are interested in testifying please include the following information relating to the person testifying: Name, Organization affiliation, Address, Telephone number, E-mail address and Fax number. SBA will attempt to accommodate all interested parties that wish to present testimony. Based on the number of registrants it may be necessary to impose time limits to ensure that everyone who wishes to testify has the opportunity to do so. SBA will confirm in writing the registration of presenters and attendees.

IV. Information on Service for Individuals With Disabilities

For information on facilities or services for individuals with disabilities or to request special assistance at the public meetings, contact Ms. Carol Walker at the telephone number or e-mail address indicated under the FOR FURTHER INFORMATION CONTACT section of this notice.

Authority: 15 U.S.C. 632, 634(b)(6), 636(b), 637(a), 644 and 662(5); Pub. L. 105-135, sec. 401 et seq., 111 Stat. 2592; and, E.O. 13175, 65 FR 67249.

Dated: December 2, 2009.
Clara Pratte,
National Director for the Office of Native American Affairs.

[FR Doc. E9-29115 Filed 12-4-09; 8:45 am]

BILLING CODE 8025-01-P